DEPARTMENT OF COMMERCE

National Institute of Standards and Technology

[Docket Number: 100217092-0110-01]

Solicitation of Participation In and Public Meeting to Discuss Public Safety 700 MHz Broadband Demonstration Network

AGENCY: National Institute of Standards and Technology, Department of Commerce.

ACTION: Notice of solicitation of participation.

SUMMARY: The National Institute of Standards and Technology (NIST) announces the building of a 700 MHz Public Safety Broadband Demonstration Network (Demonstration Network), which will provide manufacturers and first responders a location for early deployment of their systems in a multi-vendor, neutral host environment.¹ Emergency responders will see how these broadband systems will function and determine through hands-on experience how these systems meet their unique needs. This Notice of Solicitation of Participation both seeks Expressions of Interest from parties that may be interested in participating in the Demonstration Network and also announces a project kick-off meeting for all interested stakeholders.

¹ NIST Tech Beat (2009), Demonstration Network Planned for Public Safety 700 MHz Broadband. http://www.nist.gov/public_affairs/techbeat/tb2009_1215.htm.

DATES: Expressions of Interest in participating in the program are due on or before 5:00 pm Mountain Time, April 30, 2010. A kick-off informational meeting will be held March 15, 2010, via webinar over the Internet. The registration deadline for participation in the meeting is due by 5 p.m. Mountain Time, March 12, 2010. Please see registration instructions in the SUPPLEMENTARY INFORMATION section of this notice.

ADDRESSES: Expressions of Interest in participating in the Demonstration Network and registrations for the kick-off meeting should be sent to 700MHz@its.bldrdoc.gov. The webinar details, meeting time and teleconference bridge information will be e-mailed to registrants prior to the event.

FOR FURTHER INFORMATION CONTACT: Emil Olbrich, (303) 497-4950, e-mail: 700MHz@its.bldrdoc.gov. The mailing address is 325 Broadway, Mail Stop ITS.P, Boulder, CO, 80305.

SUPPLEMENTARY INFORMATION: Public safety agencies have long struggled with effective cross-agency radio communications, due mainly to incompatible systems and non-contiguous spectrum assignments. But newly enacted Congressional legislation ² and FCC Rulings ³ have created broadband spectrum cleared by the Digital Television (DTV) transition available to local, state and tribal public safety agencies (i.e. fire, police, emergency medical services), allowing for a unified system that would foster nationwide roaming and interoperability. Though this spectrum will provide ample opportunity for the build-out of next-generation communications systems that could achieve true interoperability for public safety, no government or independent laboratory facilities exist in the United States to test and demonstrate the behaviors of this yet-to-be-deployed 700 MHz network and the applications that could run on top of it.

² Public Law No: 111-4.

³ Implementing a Nationwide, Broadband, Interoperable Public Safety Network in the 700 MHz Band, FCC WT Docket No. 06-150, PS Docket No. 06-229.

To address this critical gap, the National Institute of Standards and Technology (NIST), through its Public Safety Communications Research (PSCR) program, will begin building a Public Safety Broadband Demonstration Network. This Demonstration Network will allow NIST, manufacturers and public safety users a site for the early deployment of their systems in order to evaluate the Third Generation Partnership Project (3GPP) Long Term Evolution (LTE) standard, in a multi-vendor environment and create integration opportunities for commercial service providers.

Public Safety Broadband Demonstration Network

The goal of this project is to demonstrate and evaluate the behaviors of 3GPP LTE technology deployed in the 700 MHz bands, specific to the needs of public safety agencies. NIST has developed an initial network design that must be evaluated by vendors, service providers, academia, and other stakeholders to ensure that it can support all test cases. In this project, emergency responders, vendors, carriers, academia and other stakeholders will have the opportunity to participate in the development, test planning and network design evaluation of the Demonstration Network system. Each participant may provide individual input to NIST; no consensus advice will be provided. Public Safety users will see how these broadband systems will function and determine through hands-on experience how the systems meet their unique needs. Features and system performance that commercial carriers may not be testing for commercial purposes, but that are of importance to public safety, will be a primary area of assessing public safety user requirements within the 3GPP LTE standard. This will include multicast/broadcast capabilities, priority access, pre-emption, SMS, and voice. Vendors who are developing LTE equipment (Band Class 14) are eligible to participate in this project.

On or before April 30, 2010, interested parties wishing to participate in the Demonstration Network should submit to the e-mail address in the ADDRESSES section, their name, address, phone number, and an e-mail address. After receiving all submissions, NIST may contact any party that submitted an expression of interest to follow-up on how its technology would meet the above evaluation criteria. As part of the Demonstration Network project, NIST will enter into Cooperative Research and Development Agreements (CRADAs) with participating equipment stakeholders.

The following information details the technical specifications of the Demonstration Network as it relates to radio frequency and the ability to transmit over the air.

Demonstration Network Technology: Equipment utilizing minimum 3GPP LTE Release 8, Evolved Packet Core (EPC) and IP Multimedia System (IMS). Other air interfaces may be considered.

Demonstration Network Frequency Band: 758-768 MHz & 788-798 MHz (3GPP Band Class 14) Authorization to transmit over-the-air for the Demonstration Network: Via a request for FCC Special Temporary Authority (STA) for Part 90 and/or Part 27.

Phases for Stakeholder Participation: The Demonstration Network will have the following three major phases for stakeholder participation:

Phase 1—Network and Test Planning: Stakeholders will be involved in creating a common test plan for all vendors and creating a common network deployment and coverage scheme.

Phase 2—Deployment: Equipment is scheduled for delivery to site locations. Coverage, network planning, site preparation completed. Installation and commissioning takes place.

Phase 3—Testing and Demonstrations: Test plan execution takes place. This may be staggered into sub-phases as equipment and features become available. Network is available to perform system level testing and demonstrations on.

Equipment Disposition: Stakeholder equipment used for the demonstration network will be returned to the stakeholders, at their expense, after the completion of the project or upon withdrawal from the project.

Demonstration Network Timeline: This demonstration network is currently in the preliminary planning stages and is expected to go live in mid 2010.

Webinar NIST intends to hold a webinar meeting on March 15, 2010 webinar to bring together interested stakeholders (vendors, carriers, public safety practitioners, academics) to specifically discuss how to move forward on the Demonstration Network and to establish the focus and goals of the project. There is no charge for participation in the meeting. The registration deadline is 5 p.m. Mountain Time on March 12, 2010. Please submit your name, email address and phone number to 700MHz@its.bldrdoc.gov and you will be provided with the logistics for the webinar meeting.

Dated: February 26, 2010.
Marc G. Stanley,
Acting Deputy Director.

[FR Doc. 2010-4421 Filed 3-2-10; 8:45 am]

BILLING CODE 3510-13-P